DEPARTMENT OF VETERANS AFFAIRS

[OMB Control No. 2900-NEW]

Proposed Information Collection Activity: (Income Verification)

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including this new collection, and allow 60 days for public comment in response to the notice. This notice solicits comments on information needed to identify areas for improvement in clinical training programs.

DATES: Written comments and recommendations on the proposed collection of information should be received on or before March 27, 2017.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-NEW” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. Mailed with Veterans' Initial Letters—HEC Form 200-1A

b. Mailed with Spouses' Initial Letters—HEC Form 220-1

c. Mailed to Veterans When Necessary—HEC Form 340-1

d. Mailed to Veterans When Necessary—Checklist.

OMB Control Number: 2900-NEW.

Type of Review: New collection.

Abstract: The HEC, IVD uses HEC Form 200-1A (Veteran's Income Verification Response) to collect income verification information, as applicable, from the Veteran by requesting the Veteran to verify the listed income on the form as reported to IVD by IRS/SSA, to select the appropriate option on the form relating to the household income, attest to out of pocket medical expenses, attest to sale of primary home real estate and attest to separation from spouse for the income year under the Income Verification Division's review. The Veteran's signature is required on page 2 of HEC Form 200-1A. If the Veteran has medical/health limitations that does not enable the Veteran to physically sign the form with a wet signature, the Veteran must mark an “X” to designate a signature; two witnesses must verify the “X” as the Veteran's signature. HEC, IVD will use the completed HEC Form 200-1A to assist in verifying the Veteran's correct gross household income to ensure the Veteran is placed in the correct priority group for health care.

The HEC, IVD uses HEC Form 220-1 (Spouse's Income Verification Response) to collect income verification information, as applicable, from the Veteran's spouse by requesting the spouse to verify the listed income on the form as reported to IVD by IRS/SSA, report any additional income not reported by IRS/SSA and sign and date the form. If the spouse has medical/health limitations that does not enable the spouse to physically sign the form with a wet signature, the spouse must mark an “X” to designate a signature; two witnesses must verify the “X” as the Veteran's signature. HEC, IVD will use the completed HEC Form 220-1 to assist in verifying the Veteran's correct gross household income to ensure the Veteran is placed in the correct priority group for health care.

The HEC, IVD uses the HEC Form 340-1 (Declaration of Representative) for the Veteran and the spouse (if applicable) to appoint a representative, authorizing HEC, IVD to release information to a designated appointee for a specific income year. Such information includes confidential federal tax information, other income, and medical benefits eligibility related information. The Veteran and spouse (if applicable) must sign and date the form.

The HEC, IVD uses the HEC Income Verification—Additional Information Checklist to request from the Veteran any additional information needed to adjudicate the Income Verification case. The Veteran providing the requested information usually results in the best interest to the Veteran.

Affected Public: Individuals or households.

Estimated Annual Burden:

a. Mailed with Veterans' Initial Letters—HEC Form 200-1A—89,001 hours

b. Mailed with Spouses' Initial Letters—HEC Form 220-1—28,530 hours

c. Mailed to Veterans When Necessary—HEC Form 340-1—1,701 hours

d. Mailed to Veterans When Necessary—Checklist—761 hours

Estimated Average Burden per Respondent:

a. Mailed with Veterans' Initial Letters—HEC Form 200-1A—30 minutes

b. Mailed with Spouses' Initial Letters—HEC Form 220-1—20 minutes

c. Mailed to Veterans When Necessary—HEC Form 340-1—15 minutes

d. Mailed to Veterans When Necessary—Checklist—761—15 minutes

Frequency of Response: Annually.

Estimated Annual Responses:

a. Mailed with Veterans' Initial Letters—HEC Form 200-1A—178,002

b. Mailed with Spouses' Initial Letters—HEC Form 220-1—85,590

c. Mailed to Veterans When Necessary—HEC Form 340-1—6,805

d. Mailed to Veterans When Necessary—Checklist—761—3,044

By direction of the Secretary.
Cynthia Harvey-Pryor,
Program Specialist, Office of Privacy and Records Management, Department of Veterans Affairs.

[FR Doc. 2017-01753 Filed 1-25-17; 8:45 am]

BILLING CODE 8320-01-P